ELECTION ASSISTANCE COMMISSION

Sunshine Act Meetings

AGENCY: U.S. Election Assistance Commission.

ACTION: Notice of public meeting agenda; correction.

SUMMARY: The U.S. Election Assistance Commission published a document in the Federal Register of March 21, 2022, regarding the scheduled meeting to vote on the Adoption of Voluntary Voting System Guidelines (VVSG) Lifecycle Policy 1.0. The notice contained an incorrect time.

FOR FURTHER INFORMATION CONTACT: Kristen Muthig, Telephone: (202) 897-9285, Email: kmuthig@eac.gov.

SUPPLEMENTARY INFORMATION:

Correction

In the Federal Register of March 21, 2022, in FR Doc. 2022-06025, on page 15982 in the first column, the DATES section should be corrected to read:

DATES: Tuesday, April 5, 2022, 2:30 p.m.-3:30 p.m. Eastern.

Amanda Joiner,
Acting General Counsel, U.S. Election Assistance Commission.

[FR Doc. 2022-06314 Filed 3-24-22; 11:15 am]

BILLING CODE P